DEPARTMENT OF HOMELAND SECURITY

Transportation Security Administration

Intent To Request Approval From OMB of One New Public Collection of Information: Partnership Survey for Surface Transportation Security Grants Program

AGENCY: Transportation Security Administration, DHS.

ACTION: 60-day notice.

SUMMARY: The Department of Homeland Security (DHS), Transportation Security Administration (TSA), invites public comment on an Information Collection Request (ICR) regarding the Transit Security Grant Program (TSGP) that TSA will submit to the Office of Management and Budget (OMB) for approval in compliance with the Paperwork Reduction Act (PRA). The information collection involves surveying approximately 400 representatives of eligible transit agencies and other organizations that partner with TSA through Regional Transit Security Working Groups (RTSWGs) in order to implement the TSGP. The survey will focus on the goals and practices of this partnership in order to enhance the RTSWG's effectiveness and contribute to its and the TSGP's success.

DATES: Send your comments by June 26, 2009.

ADDRESSES: Comments may be mailed or delivered to Ginger LeMay, PRA Officer, Office of Information Technology, TSA-11, 601 South 12th Street, Arlington, VA 20598-6011.

FOR FURTHER INFORMATION CONTACT: Ginger LeMay, PRA Officer, Office of Information Technology; telephone: (571) 227-3616; e-mail: ginger.lemay@dhs.gov.

SUPPLEMENTARY INFORMATION:

Comments Invited

In accordance with the PRA of 1995 (44 U.S.C. 3501 et seq.), an agency may not conduct or sponsor, and a person is not required to respond to, a collection of information unless it displays a valid OMB control number. OMB provides a valid control number for display on an information collection only when it has reviewed and approved it. Therefore, in preparation for OMB review of the following information collection, TSA is soliciting comments on the following:

(1) Whether the proposed information requirement is necessary for the proper performance of the functions of the agency, including whether the information will have practical utility;

(2) The accuracy of the agency's estimate of the burden;

(3) Enhancing the quality, utility, and clarity of the information to be collected; and

(4) Minimizing the burden of the collection of information on those who are to respond, including using appropriate automated, electronic, mechanical, or other technological collection techniques or other forms of information technology.

Information Collection Requirement

Background

TSA has the primary Federal responsibility for security in all modes of transportation based primarily upon the authorities provided to it in the Aviation and Transportation Security Act (ATSA) (Pub. L. 107-71, November 19, 2001), the authorities provided to the DHS Secretary in the Implementing Recommendations of the 9/11 Commission Act of 2007 (9/11 Act) (Pub. L. 110-53, August 3, 2007), and delegations to TSA from the DHS Secretary.

As part of this responsibility, TSA has the programmatic lead within DHS for several transportation security grant programs. Specifically, TSA provides transit system subject matter expertise within DHS and determines the primary security architecture for the TSGP program. TSA's subject matter experts have the lead in crafting all selection criteria associated with the grant application review process.

The Federal Emergency Management Agency (FEMA) has the lead for designing and operating the administrative mechanisms needed to manage DHS's core grant programs, including the TSGP. Specifically, FEMA is responsible for ensuring compliance with all relevant Federal grant management requirements and delivering the appropriate grant management tools, financial controls, audits, and program management discipline needed to support the TSGP.

TSA and FEMA serve as ex officio members of the RTSWGs and meet with each of the RTSWGs throughout the application process to collaboratively develop project concepts, determine how projects will be selected for funding, and develop detailed cost estimates and investment justifications. TSA, FEMA, and their TSGP security partners (e.g., transit agencies and local law enforcement) work closely at the RTSWGs to establish cooperative agreements in which projects to be funded with grant dollars are selected and refined based on regional risk and security priorities.

TSA employs this collaborative partnership process to assist in ensuring that DHS grant dollars are spent effectively. This includes maximizing the risk reduction to the transit system, while also maintaining a collaborative process. An important part of the collaborative process is how closely a partnership comes to achieving its mission, vision, and goals.

Purpose

The purpose of this information collection is for TSA to more fully understand the unique features that characterize TSGP security partnerships in order to begin to improve this and other grant programs. Specifically, one of TSA's priorities for conducting this survey is to systematically understand the goals of all of its security partners and whether or not those goals are achieved through the partnership. Discovering any disconnects will better enable TSA to accomplish its mission and ultimately increase the effectiveness of the TSGP.

Past studies on partnerships have not yielded recommendations that will benefit the unique challenges TSA faces with the TSGP through the RTSWGs. Partnerships in the security grant program context, specifically security preparedness partnerships, have not been extensively studied by academia or the Federal government. Because of the vast amounts of uncertainty that cloud the “effectiveness” and “success” measurements of security partnerships, they often face unique hurdles and thus require alternative solutions to overcome them.

Therefore, this information collection is essential in order to better educate TSA on strategies that enhance the effectiveness of its security partnerships with the transit community through the RTSWGs. Through this effort, TSA and its security partners will improve the collaborative partnership process and, therefore, the effectiveness of the TSGP.

Description of Data Collection

The respondents to this proposed information collection are the approximately 400 representatives of eligible transit agencies, local law enforcement, and State administrative agencies that partner with TSA through RTSWGs in order to implement the TSGP. This information collection will occur over approximately nine weeks to elicit maximum response rates.

TSA will collect the information through a Web-based survey. All respondents will be e-mailed a Web site link and a unique password in order to take the survey. The same set of questions will be asked of all respondents. The Web-based survey will take approximately 45 minutes to complete. The anticipated one-time reporting burden for the survey is 300 annual hours (e.g., 400 respondents multiplied by 45 minutes = 18000 minutes divided by 60 (60 minutes per hour) equals 300 hours).

The information collection will be designed such that statistically significant results will emerge; these results can then, in turn, inform the structure and operation of the TSGP, and, potentially, other security partnerships.

The survey will consist of five main sections that collect opinions about:

1. Part I: Regional and Entity Threat: How partners view the threat of terrorism to their system and region as compared to the rest of the nation.

2. Part II: Membership and Process of the RTSWG: How much do partners prioritize security and how do they view the priorities of other partners? What does each of the partners bring to the table that benefits the partnership? How satisfied are partners with the process and structure of the RTSWG?

3. Part III: Goals and Outcomes: What are the goals that each partner has in participating in the RTSWG? What are the perceived outputs of the partnership? What are the key incentives that influence the success of the partnership?

4. Part IV: Other Feedback: What is working well, and/or what could be improved, in regard to the RTSWGs as they pertain to the TSGP?

5. Part V: Demographics: Is your organization a member of a RTSWG? Which Tier I RTSWG do you participate in? At what level do you represent your organization (e.g., security staff, executive)? Which of the following best characterizes your organization: Federal, State, transit agency, and/or law enforcement?

There are no other anticipated recordkeeping and reporting burdens associated with this information collection.

Use of Results

TSA will use these survey results to improve TSGP partnership strategies, which will, in turn, improve this and other grant programs. Demographic information will allow recommendations to be made for the entire program, looking nationally, and for each of the eight RTSWGs, looking regionally. Because each RTSWG operates with slight differences, the recommendations that result from the data collection will enable processes in each region to be refined so that the goals of each partner are more adequately addressed by the results of the partnership, as appropriate. To protect anonymity, demographic subgroup results will only be reported if there are at least 10 individuals responding from that subgroup. Demographic subgroups may be geographic (by region) or organizational (type of organization, e.g., Federal, State, and/or transit agency).

The outcome of this information collection and analysis of the survey results will provide several findings where improvements may be made for each region. Areas that are actionable will then be presented generically to the regions through the RTSWGs and anticipated changes to address the issues discussed.

Issued in Arlington, Virginia, on April 22, 2009.
Ginger LeMay,
Paperwork Reduction Act Officer, Office of Information Technology.

[FR Doc. E9-9513 Filed 4-24-09; 8:45 am]

BILLING CODE 9110-05-P